DEPARTMENT OF COMMERCE

International Trade Administration

[A-570-878]

Notice of Extension of Time Limit for Final Results of Administrative Review: Saccharin From the People's Republic of China

AGENCY: Import Administration, International Trade Administration, Department of Commerce.

EFFECTIVE DATE: December 5, 2005.

FOR FURTHER INFORMATION CONTACT: Blanche Ziv, AD/CVD Operations, Office 8, Import Administration, International Trade Administration, U.S. Department of Commerce, 14th Street and Constitution Avenue, NW., Washington, DC 20230; telephone: (202) 482-4207.

SUPPLEMENTARY INFORMATION:

Background

On August 8, 2005, the Department of Commerce (“the Department”) published the preliminary results of the administrative review of the antidumping duty order on saccharin from the People's Republic of China (“PRC”) covering the period December 27, 2002, through June 30, 2004. See Saccharin from the People's Republic of China: Preliminary Results and Partial Rescission of Antidumping Duty Administrative Review, 70 FR 45657 (August 8, 2005). The final results of the antidumping duty administrative review of saccharin from the PRC are currently due no later than December 6, 2005.

Extension of Time Limit for Final Results of Review

Section 751(a)(3)(A) of the Tariff Act of 1930, as amended (“the Act”) requires the Department to issue the final results of an administrative review within 120 days after the date on which the preliminary results are published. However, if it is not practicable to complete the review within the time specified, the administering authority may extend the 120-day period to 180 days. Completion of the final results within the 120-day period is not practicable due to a potential issue arising in a concurrent scope proceeding of the antidumping duty order on saccharin from the PRC regarding acid saccharin being shipped from the PRC to a third country where it is processed into sodium saccharin and then shipped to the United States.

Therefore, in accordance with section 751(a)(3)(A) of the Act, the Department is fully extending the time period for issuing the final results. Because the extended date, February 4, 2006, falls on a Saturday, we will issue the final results no later than February 6, 2006.

On September 2, 2005, the Department extended the deadline of September 7, 2005, until further notice for interested parties to submit case briefs and/or written comments on the preliminary results of review. Interested parties may submit case briefs and/or written comments no later than December 13, 2005. Rebuttal briefs and rebuttals to written comments, limited to issues raised in such briefs or comments, may be filed no later than December 20, 2005. The Department will also notify parties regarding the schedule for a public hearing to be held at a future date pursuant to a request submitted by Shanghai Fortune Chemical Co., Ltd. The public hearing will be held at the U.S. Department of Commerce, 14th Street and Constitution Avenue, NW., Washington, DC 20230.

This notice is published in accordance with sections 751(a)(3)(A) and 777(i) of the Act.

Dated: November 29, 2005.
Stephen J. Claeys,
Deputy Assistant Secretary for Import Administration.

[FR Doc. E5-6845 Filed 12-2-05; 8:45 am]

BILLING CODE 3510-DS-S